DEPARTMENT OF THE INTERIOR

Bureau of Indian Affairs

[OMB Control Number 1076-0143; 2231A2100DD/AAKC001030/A0A501010.999900]

Agency Information Collection Activities; Submission to the Office of Management and Budget for Review and Approval; Tribal Self-Governance Program

AGENCY: Bureau of Indian Affairs, Interior.

ACTION: Notice of information collection; request for comment.

SUMMARY: In accordance with the Paperwork Reduction Act of 1995, we, the Assistant Secretary—Indian Affairs (AS-IA) are proposing to renew an information collection.

DATES: Interested persons are invited to submit comments on or before July 14, 2022.

ADDRESSES: Written comments and recommendations for the proposed information collection should be sent within 30 days of publication of this notice to www.reginfo.gov/public/do/PRAMain. Find this particular information collection by selecting “Currently under Review—Open for Public Comments” or by using the search function. Please provide a copy of your comments to Steven Mullen, Information Collection Clearance Officer, Office of Regulatory Affairs and Collaborative Action—Indian Affairs, U.S. Department of the Interior, 1001 Indian School Road NW, Suite 229, Albuquerque, New Mexico 87104; or by email to comments@bia.gov. Please reference OMB Control Number 1076-0143 in the subject line of your comments.

FOR FURTHER INFORMATION CONTACT: To request additional information about this ICR, contact Sharee M. Freeman, Director, Office of Self-Governance, Department of the Interior, by email at Sharee.Freeman@bia.gov, or by telephone at (202) 219-0240. Individuals in the United States who are deaf, deafblind, hard of hearing, or have a speech disability may dial 711 (TTY, TDD, or TeleBraille) to access telecommunications relay services. You may also view the ICR at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on December 30, 2021 (86 FR 74419). No comments were received.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: The Self-Governance program is authorized by the Tribal Self-Governance Act of 1994, 25 U.S.C. 5361-5368, as amended (the Act). Indian Tribes interested in entering into Self-Governance must submit certain information as required by the Act. In addition, those Tribes and Tribal consortia that have entered into Self-Governance funding agreements will be requested to submit certain information as described in 25 CFR 1000. This information will be used to justify a budget request submission on their behalf and to comport with section 405 of the Act that calls for the Secretary to submit an annual report to the Congress.

Title of Collection: Tribal Self-Governance Program.

OMB Control Number: 1076-0143.

Form Number: Annual Self-Governance Report Form.

Type of Review: Extension of a currently approved collection.

Respondents/Affected Public: Federally recognized Indian Tribes and Tribal consortia participating in or wishing to enter into Tribal Self-Governance.

Total Estimated Number of Annual Respondents: 75.

Total Estimated Number of Annual Responses: 84.

Estimated Completion Time per Response: Completion times vary from 15 minutes to 400 hours, with an average of approximately 43 hours.

Total Estimated Number of Annual Burden Hours: 4,443 hours.

Respondent's Obligation: Required to obtain a benefit.

Frequency of Collection: On occasion or annually.

Total Estimated Annual Nonhour Burden Cost: $10,500.

An agency may not conduct or sponsor and a person is not required to respond to a collection of information unless it displays a currently valid OMB control number.

The authority for this action is the Paperwork Reduction Act of 1995 (44 U.S.C. 3501 et seq.).

Steven Mullen,
Information Collection Clearance Officer, Office of Regulatory Affairs and Collaborative Action—Indian Affairs.

[FR Doc. 2022-12793 Filed 6-13-22; 8:45 am]

BILLING CODE 4337-15-P